DEPARTMENT OF COMMERCE

National Oceanic and Atmospheric Administration

RIN 0648-XA717

Notice of Intent To Prepare an Environmental Impact Statement for the Establishment of Annual Quotas for the Subsistence Harvest of Bowhead Whales by Alaska Natives

AGENCY: National Marine Fisheries Service (NMFS), National Oceanic and Atmospheric Administration (NOAA), Commerce.

ACTION: Notice of intent; announcement of public scoping period; request for written comments.

SUMMARY: NMFS announces its intent to prepare an environmental impact statement (EIS) pursuant to the National Environmental Policy Act of 1969 (NEPA), in order to assess the impacts of issuing annual quotas for the subsistence harvest of bowhead whales by Alaska Natives from 2013 through 2017. Publication of this document begins the official scoping period that will help identify issues and alternatives to be considered in the EIS. The scoping process will end October 31, 2011.

ADDRESSES: To request inclusion on a mailing list of persons interested in the EIS, please contact Steve Davis, NMFS, 222 W 7th Avenue, Box 43, Anchorage, AK 99513. Comments on this action and the scoping process for this action must be submitted by one of the following methods to ensure that the comments are received, documented, and considered by NMFS. Comments sent by any other method, to any other address or individual, or received after the end of the comment period, may not be considered. Any comments on this document must be identified by [NOAA-NMFS-2011-0225]. All comments received are a part of the public record and will generally be posted for public viewing on http://www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

• Mail: P.O. Box 21668, Juneau, AK 99802-1668.

• Hand Delivery to the Federal Building: 709 West 9th Street, Room 420A, Juneau, AK.

• Fax: 907-586-7557.

• Electronic Submission: Submit all electronic public comments via the Federal e-Rulemaking Portal http://www.regulations.gov. To submit comments via the e-Rulemaking Portal, first click the “submit a comment” icon, then enter [NOAA-NMFS-2011-0225] in the keyword search. Locate the document you wish to comment on from the resulting list and click on the “Submit a Comment” icon on the right of that line. Include in the subject line the following document identifier: Bowhead Whale Quota EIS.

FOR FURTHER INFORMATION CONTACT: Steve Davis or Brad Smith, NMFS Alaska Region, Anchorage Field Office, (907) 271-5006.

SUPPLEMENTARY INFORMATION: NMFS is initiating this EIS process in order to comprehensively assess impacts of the subsistence harvest of Western Arctic bowhead whales by Alaska Natives from 2013 through 2017.

Background

Eskimos have hunted bowhead whales for over 2,000 years as the whales migrate in the spring and fall along the coast line of Alaska. Their traditional subsistence hunts for these whales have been regulated by catch limits and other limitations under the authority of the International Whaling Commission (IWC) since 1977. Alaska Native subsistence hunters, from 11 northern Alaskan communities, take less than one percent of the stock of bowhead whales per year. Since 1977, the number of strikes has ranged between 14 and 72 animals per year, depending in part on changes in IWC management strategy due to higher estimates of bowhead whale abundance in recent years, as well as hunter efficiency. The IWC sets an overall aboriginal subsistence catch limit for this relevant stock, based on the request of Contracting Governments on behalf of the aboriginal hunters. In the case of Alaska Eskimo and Russian Native subsistence hunts, the United States and the Russian Federation make a joint request for subsistence catch limits for bowhead whales to the IWC.

NMFS must annually publish a notice of aboriginal subsistence whale hunting quotas and any other limitations on such hunting in the Federal Register (50 CFR 230.6). The subsistence hunt is directly managed by the Alaska Eskimo Whaling Commission (AEWC), and the quotas are issued through annual amendments to a cooperative agreement between the AEWC and NOAA. In order to comprehensively assess the effects of these annual quotas, NMFS is proposing to set the term of this analysis to extend over a 5-year period, beginning in 2013.

Alternatives

NMFS preliminarily anticipates three alternatives:

Alternative 1 (no action): Do not grant the AEWC any annual quotas.

Alternative 2: Grant the AEWC annual quotas amounting to 255 landed whales over 5 years (2013 through 2017), with an annual strike quota of 67 bowhead whales per year, where no unused strikes are added to the quota for any one year.

Alternative 3: Grant the AEWC annual quotas amounting to 255 landed whales over 5 years (2013 through 2017), with an annual strike quota of 67 bowhead whales per year, where no more than 15 unused strikes are added to the strike quota for any one year. This is the agency's preferred alternative and reflects past IWC action and current management practices.

NOAA prepared an EIS in 2008 that analyzed issuing annual quotas to the Alaska Eskimo Whaling Commission for a subsistence hunt on Bowhead whales during 2008 through 2012. That analysis concluded that the overall effects of human activities associated with subsistence whaling results in only minor impacts on the western Arctic bowhead whale stock. In light of the stability of the IWC subsistence harvest allocations and the subsistence bowhead harvests by Alaska Natives over the last ten years, NMFS anticipates that the new EIS can estimate environmental consequences for a 10- to 25-year period, subject to an Environmental Assessment in 2017 (and every five years thereafter) to determine whether any new circumstances would result in significant environmental impacts warranting a new EIS.

Major issues to be addressed in this EIS include: the impact of subsistence removals on the Western Arctic stock of bowhead whales; the impacts of these harvest levels on the traditional and cultural values of Alaska Natives, and the cumulative effects of the action when considered along with climate change and past, present, and future actions potentially affecting bowhead whales.

Public Involvement

We begin this NEPA process by soliciting input from the public and interested parties on the type of impacts to be considered in the EIS, the range of alternatives to be assessed, and any other pertinent information. Specifically, this scoping process is intended to accomplish the following objectives:

1. Invite affected federal, state, and local agencies, Alaska Natives, and other interested persons to participate in the EIS process.

2. Determine the potential significant environmental issues to be analyzed in the EIS.

3. Identify and eliminate issues determined to be insignificant or addressed in other documents.

4. Allocate assignments among the lead agency and cooperating agencies regarding preparation of the EIS, including impact analysis and identification of mitigation measures.

5. Identify related environmental documents being prepared.

6. Identify other environmental review and consultation requirements.

The official scoping period is from the date of publication in the Federal Register of this document until October 31, 2011. Please visit NMFS Alaska Region web page at http://www.fakr.noaa.gov for more information on this EIS. NMFS estimates the draft EIS will be available in April 2012.

Authority

The preparation of the EIS for the subsistence harvest of Western Arctic bowhead whales by Alaska Natives will be conducted under the authority and in accordance with the requirements of NEPA, Council on Environmental Quality Regulations (40 CFR 1500-1508), other applicable Federal laws and regulations, and policies and procedures of NMFS for compliance with those regulations.

Dated: September 16, 2011.
James H. Lecky,
Director, Office of Protected Resources, National Marine Fisheries Service.

[FR Doc. 2011-24392 Filed 9-21-11; 8:45 am]

BILLING CODE 3510-22-P